DEPARTMENT OF THE INTERIOR

National Park Service

[NPS-WASO-NAGPRA-14619; PPWOCRADN0-PCU00RP14.R50000]

Notice of Inventory Completion: U.S. Army Corps of Engineers, Little Rock District, Little Rock, AR

AGENCY: National Park Service, Interior.

ACTION: Notice.

SUMMARY: The U.S. Army Corps of Engineers, Little Rock District (Little Rock District) has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Little Rock District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Little Rock District at the address in this notice by February 18, 2014.

ADDRESSES: Mr. Rodney Parker, District Archaeologist, U.S. Army Corps of Engineers, Little Rock District, P.O. Box 867, Little Rock, AR 72203, telephone (501) 324-5752, email rodney.d.parker@usace.army.mil.

SUPPLEMENTARY INFORMATION: Notice is here given in accordance with the Native American Graves Protection and Repatriation Act (NAGPRA), 25 U.S.C. 3003, of the completion of an inventory of human remains and associated funerary objects under the control of the Little Rock District and in the physical custody of the University of Arkansas, Fayetteville. The human remains and associated funerary objects were removed from Millwood Lake, in Howard, Little River, and Sevier Counties, AR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Little Rock District and the St. Louis District's Mandatory Center of Expertise for the Curation and Management of Archaeological Collections professional staff in consultation with representatives of the Caddo Nation of Oklahoma; The Chickasaw Nation; The Choctaw Nation of Oklahoma; The Quapaw Tribe of Indians; The Osage Nation (previously listed as the Osage Tribe); and the United Keetoowah Band of Cherokee Indians in Oklahoma.

History and Description of the Remains

In 1961, human remains representing, at minimum, three individuals were removed from 3HO11 (the Bell site), Millwood Reservoir, Howard County, AR. The burials were excavated during legally authorized excavations by the University of Arkansas, and the human remains have been housed at the University of Arkansas, Fayetteville, since their excavation. No known individuals were identified. No associated funerary objects are present.

Based on the physical preservation of the remains and associated archeological context, the human remains are determined to be of Native American ancestry. Archeological evidence indicates a late Fourche Maline phase with a Caddoan Mississippian occupation of the site from 500 A.D. to the Contact Period.

In 1962, human remains representing, at minimum, 11 individuals were removed from 3HO1 (the Mineral Springs site), Millwood Reservoir, Howard County, AR. The burials were excavated during legally authorized excavations by the University of Arkansas, and the human remains and associated funerary objects have been housed at the University of Arkansas, Fayetteville, since their excavation. No known individuals were identified. The 106 associated funerary objects are 10 lithic flakes, 12 chipped stone tools, 1 quartz crystal, 1 polished stone celt, 13 ceramic sherds, 32 complete ceramic vessels, 5 fragmented ceramic vessels, 3 ear spools, 7 fragments of shell, 1 lot of shell fragments, 8 beads, 8 clay pipes, and 5 fragments of baked clay.

Based on the physical preservation of the remains and associated archeological context, the human remains are determined to be of Native American ancestry. Archeological evidence indicates a Fourche Maline phase with a Caddoan Mississippian occupation of the site from 500 B.C. to the Contact Period.

In the early 1960s, human remains representing, at minimum, 47 individuals were removed from 3LR49 (the Old Martin Place site), Millwood Reservoir, Little River County, AR. The burials were excavated during legally authorized excavations by the University of Arkansas, and the human remains and associated funerary objects have been housed at the University of Arkansas, Fayetteville, since their excavation. No known individuals were identified. The 8 associated funerary objects are three bone hairpins, one complete ceramic vessel, one conch shell effigy vessel, one bone tube, one piece of chert, and one carved animal bone.

Based on the physical preservation of the remains and associated archeological context, the human remains are determined to be of Native American ancestry. Archeological evidence indicates a Fourche Maline phase with a Caddoan Mississippian occupation for the site from 500 B.C. to the Contact Period.

In the early 1960s, human remains representing, at minimum, 11 individuals were removed from 3LR12 (the White Cliffs site), Millwood Reservoir, Little River County, AR. The burials were excavated during legally authorized excavations by the University of Arkansas, Fayetteville, and the human remains and associated funerary objects have been housed at the University of Arkansas, Fayetteville, since their excavation. No known individuals were identified. The 19 associated funerary objects are three lithic flakes, one ceramic sherd, three modified faunal bones, two unmodified pieces of fauna, one pipe stem, seven projectile points, one tool kit (including a sandstone abrader, flakes, and pigment), and one clay ball.

Based on the physical preservation of the remains and associated archeological context, the human remains are determined to be of Native American ancestry. Archeological evidence indicates an early Caddoan Mississippian occupation of the site from 900-1200 A.D.

In the early 1960s, human remains representing, at minimum, seven individuals were removed from 3SV10 (the Millers Crossing site), Millwood Reservoir, Sevier County, AR. The burials were excavated during legally authorized excavations by the University of Arkansas, Fayetteville, and the human remains and associated funerary objects have been housed at the University of Arkansas, Fayetteville, since their excavation. No known individuals were identified. The 16 associated funerary objects are five reconstructed vessels, two lumps of pigment, three pebbles, two stone fragments, three projectile points, and one sandstone fragment.

Based on the physical preservation of the remains and associated archeological context, the human remains are determined to be of Native American ancestry. Archeological evidence indicates a early Caddoan Mississippian occupation of the site from 900-1200 A.D.

In the early 1960s, human remains representing, at minimum, five individuals were removed from 3SV15 (the Graves Chapel site), Millwood Reservoir, Sevier County, AR. The burials were excavated during legally authorized excavations by the University of Arkansas, Fayetteville, and the human remains have been housed at the University of Arkansas, Fayetteville, since their excavation. No known individuals were identified. No associated funerary objects are present.

Based on the physical preservation of the remains and associated archeological context, the human remains are determined to be of Native American ancestry. Archeological evidence indicates Late Archaic period (3000-650 B.C.) and Late Woodland A.D. (500-900) to Early Caddoan Mississippian (A.D. 900-1200) components of the site.

In the early 1960s, human remains representing, at minimum, two individuals were removed from 3SV21, Millwood Reservoir, Sevier County, AR. The burials were excavated during legally authorized excavations by the University of Arkansas, Fayetteville, and the human remains have been housed at the University of Arkansas, Fayetteville, since their excavation. No known individuals were identified. No associated funerary objects are present.

Based on the physical preservation of the remains and associated archeological context, the human remains are determined to be of Native American ancestry. Archeological evidence indicates a late prehistoric period occupation of the site from 900-1500 A.D.

In the late 1950's, human remains representing, at minimum, two individuals were removed from an unknown site on the Millwood Reservoir, in Howard, Little River, or Sevier Counties, AR. The burials were excavated during legally authorized excavations by the University of Arkansas, and the human remains and associated funerary objects have been housed at the University of Arkansas, Fayetteville, since their excavation. No known individuals were identified. The three associated funerary objects are ceramic sherds.

The remains were recovered during the initial testing of prehistoric sites with Native American cultural contexts in the Millwood Reservoir area and are likely from a prehistoric site in the area. Based on the physical preservation of the remains and the likely Native American prehistoric archeological context, the human remains are determined to be of Native American ancestry. Archeological evidence from sites in the region date to the late prehistoric period, from 900-1500 A.D.

Five lines of evidence support a cultural affiliation finding for the site including geographical, archeological, anthropological, historical, and oral history information gathered during consultation. The Caddo have a long association with the territory in which they were first encountered by the Europeans including in southwestern Arkansas. The emergence of the Caddo culture in the region of southwestern Arkansas, northern Louisiana, southeastern Oklahoma, and eastern Texas is documented by 900 A.D. or shortly thereafter. The distinctive ceramics and specific artifacts made of stone, bone, antler, and marine shell form a line of evidence archeologically connecting historic Caddo groups with this region. Historic records and ethnographic accounts place the Caddo in this region in the 1600s. Based on the cultural material, geographic location, dates of occupation, 18th and 19th century accounts of the occupants of the area, and information gained during consultation, Little Rock District has determined that the human remains and associated funerary objects from the sites listed in this notice are culturally affiliated with the Caddo Nation of Oklahoma.

Determinations Made by the Little Rock District

Officials of the Little Rock District have determined that:

• Pursuant to 25 U.S.C. 3001(9), the human remains described in this notice represent the physical remains of 88 individuals of Native American ancestry.

• Pursuant to 25 U.S.C. 3001(3)(A), the 152 objects described in this notice are reasonably believed to have been placed with or near individual human remains at the time of death or later as part of the death rite or ceremony.

• Pursuant to 25 U.S.C. 3001(2), there is a relationship of shared group identity that can be reasonably traced between the Native American human remains and associated funerary objects and the Caddo Nation of Oklahoma.

Additional Requestors and Disposition

Lineal descendants or representatives of any Indian tribe or Native Hawaiian organization not identified in this notice that wish to request transfer of control of these human remains and associated funerary objects should submit a written request with information in support of the request to Mr. Rodney Parker, District Archaeologist, U.S. Army Corps of Engineers, Little Rock District, P.O. Box 867, Little Rock AR 72203, telephone (501) 324-5752, email rodney.d.parker@usace.army.mil by February 18, 2014. After that date, if no additional requestors have come forward, transfer of control of the human remains and associated funerary object to the Caddo Nation of Oklahoma may proceed.

The Little Rock District is responsible for notifying the Caddo Nation of Oklahoma; The Chickasaw Nation; The Choctaw Nation of Oklahoma; The Quapaw Tribe of Indians; The Osage Nation (previously listed as the Osage Tribe); and the United Keetoowah Band of Cherokee Indians in Oklahoma that this notice has been published.

Dated: December 5, 2013.
Melanie O'Brien,
Acting Manager, National NAGPRA Program.

[FR Doc. 2014-00752 Filed 1-15-14; 8:45 am]

BILLING CODE 4312-50-P